DEPARTMENT OF COMMERCE

International Trade Administration

(A-351-828)

Administrative Review of the Suspension Agreement on Certain Hot-Rolled Flat-Rolled Carbon-Quality Steel Products From Brazil: Extension of Time Limit for Preliminary Results of Antidumping Duty Administrative Review

AGENCY: Import Administration, International Trade Administration, Department of Commerce.

EFFECTIVE DATE: March 8, 2001.

FOR FURTHER INFORMATION CONTACT: Michael Ferrier at (202) 482-1394, Phyllis Hall at (202) 482-1398, or Dena Aliadinov at (202) 482-3362, Import Administration, International Trade Administration, U.S. Department of Commerce, 14th Street and Constitution Ave, NW., Washington, DC 20230.

SUPPLEMENTARY INFORMATION:

Statutory Time Limits

Section 751(a)(3)(A) of the Tariff Act of 1930, as amended (the Act), requires the Department of Commerce (“the Department”) to make a preliminary determination within 245 days after the last day of the anniversary month of an order for which a review is requested, and a final determination within 120 days after the date on which the preliminary determination is published. However, if it is not practicable to complete the review within these time periods, section 751(a)(3)(A) of the Act allows the Department to extend the time limit for the preliminary determination to a maximum of 365 days and for the final determination to 180 days (or 300 days if the Department does not extend the time limit for the preliminary determination) from the date of publication of the preliminary determination.

Background

On July 6, 1999, the Department entered into Antidumping Duty Suspension Agreement regarding certain hot-rolled flat-rolled carbon-quality steel products (“hot-rolled steel”) from Brazil produced by Companhia Siderurgica Nacional (“CSN”), Usinas Siderurgicas de Minas Gerais (“USIMINAS”), and Companhia Siderurgica Paulista (“COSIPA”). This agreement was entered into under section 734(c) of the Tariff Act of 1930, as amended, requiring, among other things, that the estimated margin of each entry under the suspension agreement does not exceed 15 percent of the margin found in the investigation. In addition, the Agreement requires that sales of subject merchandise are not made below the reference price (calculated quarterly, to match the market). On July 28, 2000, petitioners requested that the Department conduct an administrative review of the agreement. The Department initiated this review on September 6, 2000. See 65 FR 53980 (September 6, 2000). The preliminary results are due not later than April 2, 2001.

Extension of Time Limit for Preliminary Results of Review

We determine that it is not practicable to complete the preliminary results of this review within the original time limits mandated by section 751 (a)(3)(A) of the Act. The Department is therefore extending the time limit for completion of the preliminary results by 120 days, until July 31, 2001. See Decision Memorandum from Richard Weible to Joseph A. Spetrini, dated February 26, 2001, which is on file in the Central Records Unit, Room B-099 of the main Commerce building.

This extension of the time limit is in accordance with section 751 (a)(3)(A) of the Act and 19 CFR 351.213(h)(2).

Dated: February 27, 2001.
Joseph A. Spetrini,
Deputy Assistant Secretary, AD/CVD Enforcement, Group III.

[FR Doc. 01-5626 Filed 3-7-01; 8:45 am]

BILLING CODE 3510-DS-P